DEPARTMENT OF LABOR

Employment and Training Administration

Workforce Investment Act; Native American Employment and Training Council Meeting

AGENCY: Employment and Training Administration, U.S. Department of Labor.

ACTION: Notice of meeting.

SUMMARY: Pursuant to Section 10(a)(2) of the Federal Advisory Committee Act (FACA) (Pub. L. 92-463), as amended, and Section 166(h)(4) of the Workforce Investment Act (WIA) [29 U.S.C. 2911(h)(4)], notice is hereby given of the next meeting of the Native American Employment and Training Council (Council), as constituted under WIA.

DATES: The meeting will begin at 9:00 a.m. (Eastern Time) on Tuesday, October 16, 2012, and continue until 3:00 p.m. that day. The meeting will reconvene at 9:00 a.m. on Wednesday, October 17, 2012, and adjourn at 4:30 p.m. that day. The period from 2:00 p.m. to 4:00 p.m. on October 17, 2012, will be reserved for participation and presentations by members of the public. The meeting will reconvene at 9:00 a.m. on Thursday, October 18, 2012, and adjourn at 12:00 p.m. that day.

ADDRESSES: On October 16-17, 2012 the meeting will be held at the U.S. Bureau of Labor Statistics, Postal Square Building, 2 Massachusetts Avenue, Northeast, Washington, DC 20212. On October 18, 2012 the meeting will be held at the U.S. Department of Labor, Francis Perkins Building, 200 Constitution Avenue, Northwest, Room S-2322, Washington, DC 20210.

SUPPLEMENTARY INFORMATION: The meeting is open to the public. Members of the public not present may submit a written statement on or before October 12, 2012, to be included in the record of the meeting. Submit written statements to Mrs. Evangeline M. Campbell, Designated Federal Official (DFO), U.S. Department of Labor, 200 Constitution Avenue, Northwest, Room S-4209, Washington, DC 20210. Persons who need special accommodations should contact Mr. Craig Lewis at (202) 693-3384, at least two business days before the meeting. The formal agenda will focus on the following topics: (1) Program Year 2012 Strategic Planning, (2) U.S. Department of Labor (DOL), Employment and Training Administration Update; (3) DOL, Office of Public Engagement—Tribal Consultation Policy (TCP) Update; (4) DOL, Division of Indian and Native American Program Update; (5) Training and Technical Assistance; and (6) Council Update and Recommendations.

FOR FURTHER INFORMATION CONTACT: Mrs. Evangeline M. Campbell, DFO, Division of Indian and Native American Programs, Employment and Training Administration, U.S. Department of Labor, Room S-4209, 200 Constitution Avenue, Northwest, Washington, DC 20210. Telephone number (202) 693-3737 (VOICE) (this is not a toll-free number).

Signed in Washington, DC, this 20th day of September, 2012.
Jane Oates,
Assistant Secretary, Employment and Training Administration.

[FR Doc. 2012-23952 Filed 9-28-12; 8:45 am]

BILLING CODE 4510-FR-P